ARCHITECTURAL AND TRANSPORTATION BARRIERS COMPLIANCE BOARD

Notice of Guidance Documents

AGENCY: Architectural and Transportation Barriers Compliance Board.

ACTION: Notice of guidance documents.

SUMMARY: We, the Architectural and Transportation Barriers Compliance Board (hereafter, “Access Board,” “Board,” or “we”), are issuing this notice to announce that, pursuant to Executive Order 13891, we have collected and listed all of our guidance documents on our website which can be found at http://www.access-board.gov/guidance.

FOR FURTHER INFORMATION CONTACT: Christopher Kuczynski, (202) 272-0042, kuczynski@access-board.gov.

SUPPLEMENTARY INFORMATION: Executive Order 13891 requires each agency to establish on its website “a single, searchable, indexed database that contains or links all guidance documents in effect.” (84 FR 55235, Oct. 9, 2019). In response, the Access Board has identified all of its guidance documents and co-located them at https://www.access-board.gov/guidance.

The Access Board is a small, independent federal agency dedicated to promoting equality for people with disabilities through, among other things, developing and maintaining accessibility guidelines under the Americans with Disabilities Act (ADA) and the Architectural Barriers Act (ABA). Under titles II and III of the ADA, the Board develops and maintains accessibility guidelines for buildings, facilities, and transit vehicles. See 42 U.S.C. 12204; see also 29 U.S.C 792(b)(3)(B) & (b)(10). These ADA Accessibility Guidelines serve as the basis for standards issued by the departments of Justice (DOJ) and Transportation (DOT) which enforce the ADA. See, e.g., 42 U.S.C. 12134(c), 12149(b), 12163, 12186(c). The ABA requires facilities designed, built, altered, or leased with federal funds to be accessible to people with disabilities. The Access Board maintains the accessibility guidelines upon which the ABA standards are based and enforces these standards through the investigation of complaints. In addition to promulgating regulations, the Board is charged with developing advisory information and providing technical assistance on its regulations, titles II and III of the ADA, and the ABA. See 29 U.S.C. 792(b)(2); 42 U.S.C. 2131 et seq. and 12181 et seq. The majority of Access Board guidance documents explain and illustrate requirements in the ADA or ABA Standards. These guides are non-binding and simply help clarify the applicable standards and provide clearly labeled recommendations for optional best practices that exceed the minimum requirements.

The Board also issues standards and guidelines under Section 508 of the Rehabilitation Act, 29 U.S.C. 794d, and Section 255 of the Communications Act. Section 508 requires that information and communication technology (ICT) purchased, maintained, or used by the federal government be readily accessible to, and usable by, individuals with disabilities. Section 255 of the Communication Act, 47 U.S.C. 255, requires that telecommunications services and equipment be accessible to, and usable by, individuals with disabilities where readily achievable.

The guidance documents listed on the Board's website are divided into seven separate categories.

1. Guidance on the Americans With Disabilities Act (ADA) Accessibility Standards

These guidance documents, while listed separately, together make up a single guide to the ADA Standards. The guide is divided by chapters that correspond to the applicable Chapters in the ADA Standards. In the beginning of the Guide to the ADA Accessibility Standards, the Board notes that it “explains requirements in the current editions of the ADA Standards issued by the DOJ and DOT. It was developed by the U.S. Access Board in cooperation with DOJ and DOT. It is important to use this guide along with a complete copy of the ADA Standards as it explains, but does not contain or reprint, the text of the ADA Standards.” See https://www.access-board.gov/guidelines-and-standards/buildings-and-sites/about-the-ada-standards/guide-to-the-ada-standards/about-this-guide.

2. Guidance on the Architectural Barriers Act (ABA) Accessibility Standards

This document is similar to the guide on the ADA Standards in that it is divided into multiple chapters that correspond to the chapters of the ABA Standards. Similarly, this guide explains current editions of the ABA Standards issued by the Department of Defense, the General Services Administration, and the U.S. Postal Service, which are based on, and are substantively similar to, the Board's updated ABA Accessibility Guidelines (2004).” See https://www.access-board.gov/guidelines-and-standards/buildings-and-sites/about-the-aba-standards/guide-to-the-aba-standards/about-this-guide. Additionally, the Board provides a disclaimer which states “[i]t is important to use this guide along with a complete copy of the ABA Standards as it explains, but does not contain or reprint, the text of the ABA Standards.”

3. Animations on the ADA and ABA Standards

The Access Board has created multiple short animations which provide a visual and audible illustration of sections of the ADA and ABA Standards. These animations follow the same structure of the guides on the ADA and ABA Standards in that they explain requirements in the standards and provide best practices but do not establish any new or additional requirements above what is specified in the standards.

4. Guidance on the ADA Accessibility Guidelines for Transportation Vehicles

This guide provides technical assistance, background, and rationale for the ADA Accessibility Guidelines for Transportation Vehicles, 36 CFR part 1192, and gives examples of how the accessibility guidelines can be applied in particular cases.

5. Guidance on Requirements for Information and Communication Technology (ICT)

These older guidance documents provide technical assistance on the implementation of the original standards issued under Section 508 of the Rehabilitation Act. While the Board has updated these standards recently, we maintain this guide as there is still legacy ICT to which the Original 508 Standards are applicable. 36 CFR part 1194, Appendix D.

6. Guidance on Public Rights-of-Way

This section includes multiple documents and videos that provide technical assistance on providing access to public streets and sidewalks and other elements of public rights-of-way. These materials clearly state that they are only intended to provide technical assistance and are not binding as the public rights-of-way rulemaking has not been completed.

7. Guidance on Prescription Drug Labels

This is advisory guidance on making prescription drug container labels accessible to people who are blind, visually impaired, or elderly. Section 904 of the Food and Drug Administration and Innovation Act (Pub. L. 112-144, 126 Stat. 993) charged the Access Board with convening a working group to develop best practices for making information on prescription drug container labels accessible. However, these best practices are not mandatory and are not standards or accessibility guidelines of the Access Board. Id.

David M. Capozzi,
Executive Director.

[FR Doc. 2020-04058 Filed 2-27-20; 8:45 am]

BILLING CODE 8150-01-P